SMALL BUSINESS ADMINISTRATION

Public Federal Regulatory Enforcement Fairness Hearing; U.S. Small Business Administration Region I Regulatory Fairness Board

The U.S. Small Business Administration (SBA) Region I Regulatory Fairness Board and the SBA Office of the National Ombudsman will hold a public hearing on Thursday, September 29, 2005, at 9 a.m. The meeting will take place at the Warwick Public Library, 600 Sandy Lane, Warwick, RI to receive comments and testimony from small business owners, small government entities, and small non-profit organizations concerning regulatory enforcement and compliance actions taken by federal agencies.

Anyone wishing to attend or to make a presentation must contact Normand Deragon in writing or by fax, in order to be put on the agenda. Normand Deragon, Public Information Officer, SBA, Rhode Island District Office, 380 Westminster Street, 5th Floor, Providence, RI 02903, phone (401) 528-4576, fax (401) 528-4539, e-mail: Normand.deragon@sba.gov.

For more information, see our Web site at http://www.sba.gov/ombudsman.

Matthew K. Becker,
Committee Management Officer.

[FR Doc. 05-17112 Filed 8-26-05; 8:45 am]

BILLING CODE 8025-01-M